DEPARTMENT OF EDUCATION

Submission for OMB Review; Comment Request

AGENCY: Department of Education.

ACTION: Correction Notice.

SUMMARY: On December 21, 2007, the Department of Education published a comment period notice in the Federal Register (Page 72682, Column 3) for the information collection, “Understanding Science Professional Development and the Science Achievement of English Learners.” The burden hours are hereby corrected to 680.

The IC Clearance Official, Regulatory Information Management Services, Office of Management, hereby issues a correction notice as required by the Paperwork Reduction Act of 1995.

Dated: January 9, 2008.
Angela C. Arrington,
IC Clearance Official, Regulatory Information Management Services, Office of Management.

[FR Doc. E8-548 Filed 1-14-08; 8:45 am]

BILLING CODE 4000-01-P